DEPARTMENT OF COMMERCE

International Trade Administration

[A-570-863]

Notice of Preliminary Results and Partial Rescission of Antidumping Duty New Shipper Review: Honey from the People's Republic of China

AGENCY: Import Administration, International Trade Administration, Department of Commerce.

ACTION: Notice of Preliminary Results and Partial Rescission of Antidumping Duty New Shipper Review.

SUMMARY: In response to requests from Cheng Du Wai Yuan Bee Products Co., Ltd (“Cheng Du”) and Jinfu Trading Co., Ltd. (“Jinfu”), the U.S. Department of Commerce (“the Department”) is conducting new shipper reviews of the antidumping duty order on honey from the People's Republic of China. The period of review covers the period December 1, 2002, through May 31, 2003. For Jinfu, we have preliminarily determined that it failed to demonstrate its entitlement to a new shipper review, while for Cheng Du we have preliminarily determined that it has not made sales at less than normal value. See the “Partial Rescission of New Shipper Review” section below. The preliminary results are listed below in the section titled “Preliminary Results of Review.” Interested parties are invited to comment on these preliminary results.

EFFECTIVE DATE: June 3, 2004.

FOR FURTHER INFORMATION CONTACT: Angelica Mendoza (for Jinfu) at (202) 482-3019 or Dena Aliadinov (for Cheng Du) at (202) 482-3362; Antidumping and Countervailing Duty Enforcement Group III, Office Eight, Import Administration, International Trade Administration, U.S. Department of Commerce, 14th Street and Constitution Avenue NW, Washington, D.C. 20230.

SUPPLEMENTARY INFORMATION:

Background

The Department published in the Federal Register an antidumping duty order on honey from the People's Republic of China (“PRC”) on December 10, 2001. See Notice of Amended Final Determination of Sales at Less Than Fair Value and Antidumping Duty Order; Honey from the People's Republic of China, 66 FR 63670 (December 10, 2001). On June 30, 2003, the Department received timely filed requests from Cheng Du and Jinfu for new shipper reviews under the antidumping duty order on honey from the PRC, in accordance with section 751(a)(2)(B) of the Act and section 351.214(c) of the Department's regulations. Cheng Du identified itself as the producer and exporter of the merchandise subject to review. Jinfu identified itself as the exporter of subject merchandise produced by its supplier, Cixi City Yikang Bee Industry Co., Ltd. (“Cixi Yikang”).

Under the new shipper provisions, an exporter or an exporter that is also a producer of the subject merchandise, in requesting a new shipper review, must certify to the following: (i) it did not export the merchandise to the United States during the period of investigation (“POI”); and (ii) it is not affiliated with any exporter or producer who exported the subject merchandise during that period. In addition, if the exporter is not the producer, then the entity that produced or supplied the subject merchandise must also certify to the above-listed requirements. Moreover, in an antidumping proceeding involving imports from a nonmarket economy country, the new shipper must also certify that its (and its producers') export activities are not controlled by the central government. If these provisions are met, the Department will conduct a new shipper review to establish an individual weighted-average dumping margin for such new shipper, if the Department has not previously established such a margin for the exporter or producer. (See generally section 351.214(b)(2) of the Department's regulations.)

The regulations further require that the entity making the request include in its request documentation establishing: (i) the date on which the merchandise was first entered, or withdrawn from warehouse, for consumption, or, if it cannot establish the date of first entry, the date on which it first shipped the merchandise for export to the United States; (ii) the volume of that and subsequent shipments; and (iii) the date of the first sale to an unaffiliated customer in the United States. See section 351.214(b)(2)(iv).

Cheng Du's and Jinfu's requests were accompanied by information and certifications establishing that neither they nor their suppliers exported the subject merchandise to the United States during the POI, and that they were not affiliated with any company that exported subject merchandise to the United States during the POI. Cheng Du and Jinfu provided information and certifications that demonstrated the date on which they first shipped and entered honey for consumption in the United States, the volume of that shipment, and the date of the first sale to the unaffiliated customer in the United States (Jinfu did not provide the latter information). See the “Partial Rescission of New Shipper Review” section below. Additionally, Cheng Du and Jinfu certified that neither their nor their suppliers' export activities are controlled by the central government.

Because the Department determined that Cheng Du's and Jinfu's requests met the requirements of section 351.214 of its regulations at that time, on August 11, 2003, the Department published its initiation of this new shipper review for the period December 1, 2002, through May 31, 2003. See Honey from the People's Republic of China: Initiation of New Shipper Antidumping Duty Reviews, 68 FR 47537 (August 11, 2003) (“Initiation of New Shipper Reviews”). Accordingly, the Department is now conducting this new shipper review in accordance with section 751(a)(2)(B) of the Act and section 351.214 of its regulations.

On August 4, 2003, we issued the Department's antidumping duty questionnaire to Cheng Du and Jinfu. Cheng Du and Jinfu submitted their Section A questionnaire responses on September 2, 2003 and September 16, 2003, respectively. On September 8, 2003, Cheng Du submitted its Section C and D questionnaire responses. On September 28, 2003, Jinfu submitted its Section C and D questionnaire responses. On October 8, 2003, petitioners submitted comments on Cheng Du's Sections A, C, and D responses. On November 10, 2003, petitioners submitted comments on Jinfu's Sections A, C, and D responses.

On October 29, 2003, we issued a supplemental questionnaire covering Cheng Du's Section A, C, and D questionnaire responses. We received Cheng Du's first supplemental questionnaire response on November 14, 2003. On December 3, 2003, petitioners submitted comments on Cheng Du's first supplemental questionnaire response.

On December 3, 2003, the Department provided interested parties with an opportunity to submit publicly available information regarding surrogate country selection and factors of production surrogate values for consideration in the preliminary results of this review.

On December 3, 2003, the Department issued a supplemental questionnaire to Cheng Du to forward to its importer (“importer questionnaire”). We issued a second supplemental questionnaire to Cheng Du, covering its first supplemental response, on December 8, 2003.

On December 11, 2003, we issued a supplemental questionnaire covering Jinfu's Section A, C, and D questionnaire responses. We received a response to the importer questionnaire from Cheng Du's importer on December 12, 2003. On December 17, 2003, petitioners submitted comments on the surrogate country selection. On December 22, 2003, we received Cheng Du's second supplemental questionnaire response. On December 30, 2003, we received Jinfu's first supplemental questionnaire response.

On January 5, 2004, petitioners submitted information on factors of production surrogate values for consideration. We did not receive any comments or information from Cheng Du. On January 5, 2004, we received surrogate value information from Jinfu.

Petitioners submitted comments for consideration in the Department's verification of Cheng Du's questionnaire responses on January 6, 2004. On January 12, 2004, petitioners submitted comments on Jinfu's first supplemental questionnaire response. On January 14, 2004, the Department extended the preliminary results of this new shipper review by 120 days until May 26, 2004. See Honey from the People's Republic of China: Extension of Time Limits for Preliminary Results of New Shipper Antidumping Duty Review, 69 FR 2112 (January 14, 2004). We issued a second supplemental questionnaire to Jinfu, covering its first supplemental response, on January 16, 2004. We received Jinfu's second supplemental questionnaire response on January 23, 2004. Petitioners submitted comments for consideration in the Department's verification of Jinfu's questionnaire responses on January 29, 2004 and March 4, 2004, respectively.

Scope of the Antidumping Duty Order

The products covered by this review are natural honey, artificial honey containing more than 50 percent natural honey by weight, preparations of natural honey containing more than 50 percent natural honey by weight, and flavored honey. The subject merchandise includes all grades and colors of honey whether in liquid, creamed, comb, cut comb, or chunk form, and whether packaged for retail or in bulk form. The merchandise subject to this review is currently classifiable under subheadings 0409.00.00, 1702.90.90, and 2106.90.99 of the Harmonized Tariff Schedule of the United States (“HTSUS”). Although the HTSUS subheadings are provided for convenience and the U.S. Customs and Border Protection (“CBP”) purposes, the Department's written description of the merchandise under order is dispositive.

Verification

As provided in section 782(i)(3) of the Act and section 351.307 of the Department's regulations, we conducted verification of the questionnaire responses of Cheng Du (January 12, 2004, through January 16, 2004) and Jinfu (February 2, 2004, through February 5, 2004). We used standard verification procedures, including on-site inspection of the production facilities of Cixi Yikang in Cixi, PRC (Jinfu's supplier of processed honey), and Cheng Du in Anshan, PRC, the sales and administrative office of Jinfu in Kunshan, PRC, and the sales office of Cheng Du in Chengdu, PRC, and the examination of relevant sales and financial records. We also conducted verification at the sales and administrative office of Jinfu's claimed U.S. affiliate, Jinfu Trading (USA), Inc., from March 8, 2004, through March 9, 2004, near Seattle, Washington. Our verification results are outlined in the New Shipper Review of Honey from the People's Republic of China (PRC) (A-570-863): Verification of U.S. Sales and Factors of Production for Respondent Cheng Du Wai Yuan Bee Products Co., Ltd. (“Cheng Du”), dated March 1, 2004 (“Cheng Du Verification Report”), the Third New Shipper Review of Honey from the People's Republic of China (PRC) (A-570-863); Verification of Intra-company U.S. Sales Information Submitted by Jinfu Trading Company, Ltd. and Factors of Production Information Submitted by Cixi City Yikang Bee Industry Co., Ltd., dated May 5, 2004 (“Jinfu Verification Report”), and the Third New Shipper Review of Honey from the People's Republic of China (PRC) (A-570-863); Sales Verification of Questionnaire Responses Submitted by Jinfu Trading Co., Ltd. on behalf of its U.S. affiliate, Jinfu Trading (USA), Inc., dated May 5, 2004 (“Jinfu USA Verification Report”). Public versions of these reports are on file in the Central Records Unit (“CRU”) located in room B-099 of the Main Commerce Building.

Partial Rescission of New Shipper Review

For the reasons stated below, we are preliminarily rescinding, in part, the new shipper review with respect to Jinfu because documentation on the record shows that Jinfu was not affiliated with Jinfu USA during the POR. See Memorandum to Richard O. Weible, through Abdelali Elouaradia, Analysis of the Relationship between Jinfu Trading Co., Ltd. and Jinfu Trading (USA), Inc. (“Affiliation Memo”), dated May 26, 2004 for further discussion. Specifically, in its Section A response and first supplemental response, Jinfu stated that Jinfu USA is wholly-owned by its president and was legally incorporated in the State of Washington on October 4, 2002. However, upon further examination of documents relating to the establishment/incorporation of Jinfu USA, it appears that Jinfu and Jinfu USA were not affiliated at the time of Jinfu's first sale to the United States. In particular, the “Certificate of Incorporation,” which was placed by Jinfu on the record, incorporating the precursor of Jinfu USA, Yousheng Trading (USA) Co., Ltd. (“Yousheng USA”), was issued by the State of Washington on October 4, 2002. See Jinfu's December 30, 2003, supplemental questionnaire response at Exhibit 7. The transaction in which Jinfu claims that Jinfu USA was an affiliated party, however, occurred only one month following Yousheng USA's incorporation. The extremely short period of time between the incorporation of Yousheng USA and the transaction in question, coupled with the fact that even the respondent admits that Yousheng USA officially became Jinfu USA ten days following the sale at issue, leads the Department to believe that on November 2, 2002 Yousheng and Jinfu were not affiliated. See Jinfu's December 30, 2003, supplemental questionnaire response at Exhibit 7. Moreover, based on other record evidence, we have reason to believe that the president of Jinfu did not own Jinfu USA until after the POR. Specifically, the ownership transfer agreement provided by Jinfu in its supplemental questionnaire response dated December 30, 2003, was dated and signed by Jinfu's president and the owner of Yousheng USA on October 25, 2003, approximately five months after the POR and over a year after Jinfu's first sale to the United States. For further details, see Affiliation Memo. Therefore, for all of the above reasons, the Department has concluded that this transaction should not be treated as an affiliated transaction as claimed by Jinfu.

In order to qualify for a new shipper review under 19 CFR 351.214, a company must provide certifications and documentation establishing, among other things, the date of the first sale to an unaffiliated customer in the United States. See 19 CFR 351.214(b)(2)(iv)(C). Given that Jinfu could not substantiate its affiliation with Jinfu USA at the time of its first sale to the United States or any time during the POR, we have preliminarily determined to treat the sale under review as an export-price (“EP”) sale. Because Jinfu's certification (which it provided prior to the initiation of the new shipper review) does not include documentation establishing the date of the first sale to an unaffiliated customer in the United States, Jinfu is not entitled to a new shipper review. Therefore, we are preliminarily rescinding this review with respect to Jinfu.¹

¹ We further note, presuming that the unaffiliated sale price will be treated as an export price ("EP"), that the EP sale price appears to be aberrationally low relative to the average unit value of all comparable honey imports from the PRC during the POR. In addition, record inconsistencies regarding the establishment of Jinfu USA and its relationship with Jinfu at the time of the EP sale leads us to question the legitimacy of the U.S. importer of record/customer, and as a result, the bona fides of the reported EP sale itself. Specifically, as noted above, we preliminarily find that Jinfu USA was not established when the EP sale had occurred. Furthermore, the date discrepancies between the ownership transfer agreement, as explained above, and the information described in the corporate resolution documents taken during verification, contradict Jinfu's assertion that Jinfu and Jinfu USA were affiliated parties during the POR. See Affiliation Memo for further details. See also Verification Exhibit 1. These factors are significant to our analysis of the bona fides of this EP sale. Accordingly, even if the Department's findings were to change between the preliminary and the final results of this review as to the certification inadequacies of Jinfu's new shipper review request, the bona fides issue would need to be further addressed in our final analysis.

New Shipper Status

Based on questionnaire responses submitted by Cheng Du, and our verification thereof, we preliminarily determine that Cheng Du has met the requirements to qualify as a new shipper during the POR. We have determined that Cheng Du made its first sale and/or shipment of subject merchandise to the United States during the POR, and that it was not affiliated with any exporter or producer that had previously shipped subject merchandise to the United States. Therefore, for purposes of these preliminary results of review, we are treating Cheng Du's sale of honey to the United States as an appropriate transaction for this new shipper review.

Separate Rates

In proceedings involving nonmarket economy (“NME”) countries, the Department begins with a presumption that all companies within the country are subject to government control and, thus, should be assigned a single antidumping duty rate (i.e., a PRC-wide entity rate) unless an exporter can affirmatively demonstrate an absence of government control, both in law (de jure) and in fact (de facto), with respect to its export activities. In this review, Cheng Du requested a separate company-specific rate.

As stated in the “Partial Rescission of New Shipper Review” section above, Jinfu did not qualify for a new shipper review under the Department's new shipper regulations. We are, therefore, preliminarily rescinding the new shipper review with respect to Jinfu. Consequently, consistent with the statement in our notice of initiation, the Department will not conduct a separate rates analysis for these preliminary results with respect to Jinfu, and thus, Jinfu will continue to be treated as part of the PRC-wide entity. See Initiation of New Shipper Reviews.

To establish whether a company is sufficiently independent in its export activities from government control to be entitled to a separate, company-specific rate, the Department analyzes the exporting entity in an NME country under the test established in the Final Determination of Sales at Less Than Fair Value: Sparklers from the People's Republic of China, 56 FR 20588, 20589 (May 6, 1991) (“Sparklers”), and amplified by the Final Determination of Sales at Less Than Fair Value: Silicon Carbide from the People's Republic of China, 59 FR 22585, 22586-22587 (May 2, 1994) (“Silicon Carbide”).

Cheng Du provided separate-rate information in its responses to our original and supplemental questionnaires. Accordingly, we performed a separate-rates analysis to determine whether this producer/exporter is independent from government control (see Notice of Final Determination of Sales at Less Than Fair Value: Bicycles From the People's Republic of China, 61 FR 56570 (April 30, 1996)).

De Jure Control

The Department considers the following de jure criteria in determining whether an individual company may be granted a separate rate: (1) an absence of restrictive stipulations associated with an individual exporter's business and export licenses; (2) any legislative enactments decentralizing control of companies; and (3) any other formal measures by the government decentralizing control of companies. See Sparklers, 56 FR 20588, 20589.

Cheng Du has placed on the record a number of documents to demonstrate absence of de jure control, including the “Foreign Trade Law of the People's Republic of China” (May 12, 1994) and the “Administrative Regulations of the People's Republic of China Governing the Registration of Legal Corporations” (June 3, 1988). The Department has analyzed such PRC laws and found that they establish an absence of de jure control. See, e.g., Preliminary Results of New Shipper Review: Certain Preserved Mushrooms From the People's Republic of China, 66 FR 30695, 30696 (June 7, 2001). At verification, we found that Cheng Du's business license and “Certificate of Approval-For Enterprises with Foreign Trade Rights in the People's Republic of China” were granted in accordance with these laws. Moreover, the results of verification support the information provided regarding these PRC laws. See Cheng Du Verification Report at 10-11. Therefore, we preliminarily determine that there is an absence of de jure control over Cheng Du's export activities.

De Facto Control

Typically, the Department considers four factors in evaluating whether a respondent is subject to de facto governmental control of its export functions: (1) whether the export prices are set by, or subject to, the approval of a governmental authority; (2) whether the respondent has authority to negotiate and sign contracts, and other agreements; (3) whether the respondent has autonomy from the government in making decisions regarding the selection of its management; and (4) whether the respondent retains the proceeds of its export sales and makes independent decisions regarding disposition of profits or financing of losses. See Silicon Carbide at 22587.

As stated in previous cases, there is some evidence that certain enactments of the PRC central government have not been implemented uniformly among different sectors and/or jurisdictions in the PRC. See Silicon Carbide at 22586-22587. Therefore, the Department has determined that an analysis of de facto control is critical in determining whether respondents are, in fact, subject to a degree of governmental control which would preclude the Department from assigning separate rates.

Cheng Du has asserted the following: (1) it is a privately-owned company; (2) there is no government participation in its setting of export prices; (3) its chief executive officers and authorized employees have the authority to bind sales contracts; (4) it does not have to notify any government authorities of its management selection; (5) there are no restrictions on the use of its export revenue; and (6) it is responsible for financing its own losses. Cheng Du's questionnaire responses do not suggest that pricing is coordinated among exporters of PRC honey. Furthermore, our analysis of the responses during verification reveal no other information indicating the existence of government control. See Cheng Du Verification Report at 11-12. Consequently, because evidence on the record indicates an absence of government control, both in law and in fact, over Cheng Du's export activities, we preliminarily determine that Cheng Du has met the criteria for the application of a separate rate.

Normal Value Comparisons

To determine whether the respondent's sale of the subject merchandise to the United States was made at a price below normal value, we compared their United States price to normal value, as described in the “United States Price” and “Normal Value” sections of this notice.

United States Price

For Cheng Du, we based the United States price on export price (“EP”), in accordance with section 772(a) of the Act, because the first sale to an unaffiliated purchaser was made prior to importation, and constructed export price (“CEP”) was not otherwise warranted by the facts on the record. We calculated EP based on the packed price from the exporter to the first unaffiliated customer in the United States. For Cheng Du, we deducted domestic inland freight and domestic brokerage and handling expenses from the starting price (gross unit price), in accordance with section 772(c) of the Act.

Normal Value

Section 773(c)(1) of the Act provides that the Department shall determine normal value (“NV”) using a factors-of-production methodology if (1) the merchandise is exported from an NME country, and (2) available information does not permit the calculation of NV using home-market prices, third-country prices, or constructed value under section 773(a) of the Act.

In every case conducted by the Department involving the PRC, the PRC has been treated as an NME country. Pursuant to section 771(18)(C)(i) of the Act, any determination that a foreign country is an NME country shall remain in effect until revoked by the administering authority. Cheng Du did not contest such treatment in this review. Accordingly, we have applied surrogate values to the factors of production to determine NV for Cheng Du. See the Factor Valuation Memorandum for the Preliminary Results of the Antidumping Duty New Shipper Review of Honey from the People's Republic of China, dated May 26, 2004 (“Factor Valuation Memo”). A public version of this memorandum is on file in the CRU located in room B-099 of the Main Commerce Building.

We calculated NV based on factors of production in accordance with section 773(c)(4) of the Act and section 351.408(c) of our regulations. Consistent with the less-than-fair-value investigation of this order, we determine that India (1) is comparable to the PRC in level of economic development, and (2) is a significant producer of comparable merchandise. Accordingly, we valued the factors of production using publicly available information from India. See Memorandum to the file, through Abdelali Elouaradia, Program Manager, Selection of Surrogate Country with Significant Producer of Comparable Merchandise in the New Shipper Review of Honey from the People's Republic of China, dated May 26, 2004.

In selecting the surrogate values, we considered the quality, specificity, and contemporaneity of the data, in accordance with our practice. Where appropriate, we adjusted Indian import prices by adding foreign inland freight expenses to make them delivered prices. When we used Indian import data to value inputs sourced domestically by PRC suppliers, we added to Indian surrogate values a surrogate freight cost calculated using the shorter of the reported distance from the domestic supplier to the factory or the distance from the nearest port of export to the factory. This adjustment is in accordance with the Court of Appeals for the Federal Circuit's decision in Sigma Corp. v. United States, 117 F. 3d 1401, 1408 (Fed. Cir. 1997). When we used non-import surrogate values for factors sourced domestically by PRC suppliers, we based freight for inputs on the actual distance from the input supplier to the site at which the input was used. In instances where we relied on Indian import data to value inputs, in accordance with the Department's practice, we excluded imports from both NME countries and countries deemed to have generally available export subsidies (i.e., Indonesia, Korea, and Thailand) from our surrogate value calculations. See, e.g., Final Determination of Sales at Less Than Fair Value: Certain Automotive Replacement Glass Windshields from the People's Republic of China, 67 FR 6482 (February 12, 2002) and accompanying Issues and Decision Memorandum at Comment 1; Preliminary Determination of Sales at Less Than Fair Value: Floor-Standing, Metal-Top Ironing Tables and Certain Parts Thereof from the People's Republic of China, 69 FR 5127 (February 3, 2004). For those surrogate values not contemporaneous with the POR, we adjusted for inflation using the wholesale price indices for India, as published in the International Monetary Fund's (“IMF's”) publication, International Financial Statistics.²

² We also used wholesale price indices for India provided on the IMF's website, http://ifs.apdi.net/imf/.

We valued the factors of production as follows:

To value raw honey, we used the conservative rupee (“Rs.”) price for one kilogram (“kg.”) of raw honey, as stated in an article published in The Tribune (of India) on December 15, 2003, entitled, “Honey sweet despite price fall.” A copy of the original article is attached at Attachment 15 of the Factor Valuation Memo. The article states that there had been a fall in the price of raw honey to Rs. 65 per kg. from a high of Rs. 105 per kg. during the past year. In their March 30, 2004 submission, petitioners proposed calculating a raw honey price based on the assumption that the price of raw honey peaked in January 2003 at 105 Rs/kg. and calculated an average increase in the rupee price from May 2002 to January 2003. Then, petitioners calculated the percentage decrease in the raw honey price from January 2003 (105 Rs./kg.) to 65 Rs./kg. in December 2003. Based on these percentage price decreases, petitioners calculated a monthly raw honey price for each POR month and then averaged these raw honey prices to generate a raw honey surrogate price for the POR. Since we are not certain specifically when the price of raw honey during the past year was 105 Rs./kg. or 65 Rs./kg., we are using the conservative price of 65 Rs./kg. Because the POR for this new shipper review is December 2002 through May 2003, we do not have evidence contradicting that the raw honey price was 65 Rs. per kg. during the POR. Hence, this 65 Rs. per kg. raw honey price is contemporaneous.

On January 5, 2004, Jinfu submitted an article, dated April 2003, entitled, “Girijan co-op targets Rs 135-cr turnover,” which stated a raw honey price of 30 to 45 Rs./kg. for the Andhra Pradesh region of India. While this article is contemporaneous with the POR, we have determined that this article is not reliable because it provides information about the price of raw honey in a particular region of India rather than an Indian-wide price. Additionally, the article's information is based on data provided by an Indian honey cooperative (Girijan Cooperative Corporation Ltd.). Consistent with the less-than-fair-value investigation, we rejected data based on an Indian honey processing cooperative because we determined that such data represented the experience by a single processor of honey in a particular region of India. Generally, it is the Department's preference to use a publicly-available price that reflects numerous transactions between many buyers and sellers, because the experience of a single producer is less representative of the cost of an input in the surrogate country. See Honey from the People's Republic of China: Final Results of Antidumping Duty New Shipper Review, 68 FR 62053 (October 31, 2003) and accompanying Issues and Decision Memorandum at Comment 2 (“Wuhan NSR Final”).

Also, petitioners, in their January 5, 2004 filing, submitted raw honey price information from fourteen producers/processors, including several cooperatives. See Exhibit 1 of petitioners' submission dated January 5, 2004. However, we have determined that petitioners' raw honey price information is not reliable because it is not contemporaneous, as opposed to the information from the December 15, 2003 article from The Tribune. As stated above, we reject data based on Indian honey processing cooperatives. Therefore, the Department has preliminarily valued the raw honey input using the 65 Rs. per kg. surrogate price from The Tribune article dated December 15, 2003. See Attachment 3 of the Factor Valuation Memo. However, the Department intends to examine this issue further for the final results of this review. The Department therefore invites interested parties to submit comments on this issue for purposes of the final results.

To value beeswax, a raw honey by-product, we used the average per kg. import value of beeswax into India for the POR, using contemporaneous Indian import values of “beeswax, insect wax” under the Indian Customs' heading of “152190” obtained from the World Trade Atlas, which notes that its data was obtained from the Ministry of Commerce of India (“World Trade Atlas”).

To value coal, we relied upon contemporaneous Indian import values of “steam coal” under the Indian Customs' heading of “27011902” obtained from the World Trade Atlas. We also adjusted the surrogate value for coal to include freight costs incurred between the supplier and the factory. To value electricity, we used the third and fourth quarter 2002 total average price per kilowatt hour (“KWH”), adjusted for inflation, for “Electricity for Industry” as reported in the International Energy Agency's publication, Key World Energy Statistics, 2003. To value water, we used the water tariff rate (April 2000, through March 2001), as reported on the Municipal Corporation of Greater Mumbai's website. See http://www.mcgm.gov.in and Attachment 17 of the Factor Valuation Memo for source documents. We also adjusted the water rate for inflation.

To value packing materials (i.e., paint and steel drums), we relied upon contemporaneous Indian import data under the Indian Customs' heading “3209” obtained from the World Trade Atlas, and a price quote from an Indian steel drum manufacturer, respectively. We adjusted the surrogate value for steel drums to reflect inflation. We also adjusted the surrogate values for packing materials to include freight costs incurred between the supplier and the factory.

To value factory overhead, selling, general, and administrative expenses (“SG&A”), and profit, we relied upon publicly-available information in the 2002-2003 annual report of the Mahabaleshwar Honey Producers Cooperative Society, Ltd. (“MHPC”), a producer of the subject merchandise in India. We applied these rates to the calculated cost of manufacture and cost of production using the same methodology established in Wuhan NSR Final. See Wuhan NSR Final and accompanying Issues and Decision Memorandum.

For labor, we used the PRC regression-based wage rate reported at Import Administration's home page, Import Library, Expected Wages of Selected NME Countries, revised in September 2003. Because of the variability of wage rates in countries with similar per capita gross domestic products, section 351.408(c)(3) of the Department's regulations requires the use of a regression-based wage rate. The source of these wage rate data on the Import Administration's web site is the Year Book of Labour Statistics 2002, International Labour Office (Geneva: 2002), Chapter 5B: Wages in Manufacturing.

To value truck freight, we used an average truck freight cost based on Indian truck freight rates on a per metric ton basis published in the Iron and Steel Newsletter, April 2002, which we adjusted for inflation.

For details on factor of production valuation calculations, see the Factor Valuation Memo, dated May 26, 2004.

Currency Conversion

We made currency conversions pursuant to section 351.415 of the Department's regulations at the rates certified by the Federal Reserve Bank or by Dow Jones Reuter Business Interactive, LLC (trading as Factiva).

Preliminary Results of Review

We preliminarily determine that an antidumping duty margin does not exist for the following manufacturer and exporter³:

³ As stated in the “Separate Rates” section above, the Department has preliminarily determined that Jinfu is not entitled to a separate rate as we are rescinding the review. Thus, Jinfu's cash deposit rate will be the “PRC-wide Entity Rate.”

Manufacturer and Exporter | POR | Margin (percent)
Cheng Du Wai Yuan Bee Products Co., Ltd. | 12/01/02 - 5/31/03 | 0.00

For details on the calculation of the antidumping duty margin for Cheng Du, see the Analysis of Data Submitted by Cheng Du Wai Yuan Bee Products Co., Ltd (“Cheng Du”) in the Preliminary Results of New Shipper Review of the Antidumping Duty Order on Honey from the People's Republic of China (“Cheng Du Analysis Memo”), dated May 26, 2004. A public version of this memorandum is on file in the CRU.

Assessment Rates

Pursuant to section 351.212(b), the Department calculates an assessment rate for each importer of the subject merchandise. Upon issuance of the final results of this new shipper review, if any importer-specific assessment rates calculated in the final results are above de minimis (i.e., at or above 0.5 percent), the Department will issue appraisement instructions directly to CBP to assess antidumping duties on appropriate entries by applying the assessment rate to the entered value of the merchandise. For assessment purposes, we calculated importer-specific assessment rates for the subject merchandise by aggregating the antidumping duties due for all U.S. sales to each importer and dividing the amount by the total entered value of the sales to that importer. If these preliminary results are adopted in our final results of review, we will direct CBP to assess the resulting rate against the entered customs value for the subject merchandise on each of Cheng Du's importer's/customer's entries during the POR.

Cash-Deposit Requirements

Cheng Du or Jinfu may continue to post a bond or other security in lieu of cash deposits for certain entries of subject merchandise exported by Cheng Du or Jinfu. As Cheng Du has certified that it both produced and exported the subject merchandise, Cheng Du's bonding option is limited only to such merchandise for which it is both the producer and exporter. For Jinfu, which has identified Cixi Yikang as the producer of subject merchandise for the sale under review, Jinfu's bonding option is limited only to entries of subject merchandise from Jinfu that were produced by Cixi Yikang. Bonding will no longer be permitted to fulfill security requirements for Cheng Du's and Jinfu's shipments after publication of the final results of this new shipper review. The following cash-deposit rates will be effective upon publication of the final results of this new shipper review for all shipments of honey from the PRC entered, or withdrawn from warehouse, for consumption on or after publication date, as provided for by section 751(a)(2)(C) of the Act: (1) for subject merchandise produced and exported by Cheng Du, the cash-deposit rate will be that established in the final results of this review; (2) for all other subject merchandise exported by Cheng Du, the cash-deposit rate will be the PRC country-wide rate (i.e., 183.80 percent); (3) for all other PRC exporters which have not been found to be entitled to a separate rate (including Jinfu), the cash-deposit rate will be the PRC-wide entity rate of 183.80 percent; and (4) for all non-PRC exporters of subject merchandise, the cash-deposit rate will be the rate applicable to the PRC exporter that supplied that exporter. These deposit requirements, when imposed, shall remain in effect until publication of the final results of the next administrative review.

Schedule for Final Results of Review

The Department will disclose calculations performed in connection with the preliminary results of this review within five days of the date of publication of this notice in accordance with section 351.224(b). Any interested party may request a hearing within 30 days of publication of this notice in accordance with section 351.310(c) of the Department's regulations. A hearing would normally be held 37 days after the publication of this notice, or the first business day thereafter, at the U.S. Department of Commerce, 14th Street and Constitution Avenue, NW, Washington, DC 20230. Individuals who wish to request a hearing must submit a written request within 30 days of the publication of this notice in the Federal Register to the Assistant Secretary for Import Administration, U.S. Department of Commerce, Room 1870, 14th Street and Constitution Avenue, NW, Washington, DC 20230. Requests for a public hearing should contain: (1) the party's name, address, and telephone number; (2) the number of participants; and (3) to the extent practicable, an identification of the arguments to be raised at the hearing.

Unless otherwise notified by the Department, interested parties may submit case briefs within 30 days of the date of publication of this notice in accordance with section 351.309(c)(ii) of the Department's regulations. As part of the case brief, parties are encouraged to provide a summary of the arguments not to exceed five pages and a table of statutes, regulations, and cases cited. Rebuttal briefs, which must be limited to issues raised in the case briefs, must be filed within five days after the case brief is filed. If a hearing is held, an interested party may make an affirmative presentation only on arguments included in that party's case brief and may make a rebuttal presentation only on arguments included in that party's rebuttal brief. Parties should confirm by telephone the time, date, and place of the hearing within 48 hours before the scheduled time. The Department will issue the final results of this new shipper review, which will include the results of its analysis of issues raised in the briefs, within 90 days from the date of the preliminary results, unless the time limit is extended.

Notification to Importers

This notice also serves as a preliminary reminder to importers of their responsibility under section 351.402(f) of the Department's regulations to file a certificate regarding the reimbursement of antidumping duties prior to liquidation of the relevant entries during these review periods. Failure to comply with this requirement could result in the Secretary's presumption that reimbursement of antidumping duties occurred and the subsequent assessment of double antidumping duties.

This new shipper review and this notice are published in accordance with sections 751(a)(2)(B) and 777(i)(1) of the Act.

Dated: May 26, 2004.
James J. Jochum.
Assistant Secretary for Import Administration.

[FR Doc. 04-12602 Filed 6-2-04; 8:45 am]

BILLING CODE 3510-DS-S